FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 18, 2008.

A. Federal Reserve Bank of San Francisco (Tracy Basinger, Director, Regional and Community Bank Group) 101 Market Street, San Francisco, California 94105-1579:

1. Polamar QFP, LP, Long Beach, California; to acquire 100 percent of the voting shares of Palomar Enterprises, LLC and thereby indirectly acquire voting shares of Farmers & Merchants Bank of Long Beach, both of Long Beach, California.

Board of Governors of the Federal Reserve System, December 28, 2007.
Jennifer J. Johnson,
Secretary of the Board.

[FR Doc. E7-25562 Filed 1-2-08; 8:45 am]

BILLING CODE 6210-01-S